DEPARTMENT OF HOUSING AND URBAN DEVELOPMENT

[Docket No. FR-4950-C-06, FR-4950-C-19, FR-4950-C-20A]

Notice of HUD's Fiscal Year (FY) 2005 Notice of Funding Availability, Policy Requirements and General Section to SuperNOFA for HUD's Discretionary Grant Programs; Correction

AGENCY: Office of the Secretary, HUD.

ACTION: Super Notice of Funding Availability (SuperNOFA) for HUD Discretionary Grant Programs; correction.

SUMMARY: On March 21, 2005, HUD published its Fiscal Year (FY) 2005, Notice of Funding Availability (NOFA), Policy Requirements and General Section to the SuperNOFA for HUD's Discretionary Grant Programs. This document makes corrections to the Assisted Living Conversion Program (ALCP), the Section 202 Supportive Housing for the Elderly Program (Section 202 Program), and the Section 811 Supportive Housing for Persons with Disabilities Program (Section 811 Program). This notice also extends the application submission date for the Section 202 Program. These changes affect the NOFAS listed, but do not affect the application packages on Grants.gov.

DATES: The application submission dates are as follows:

Assisted Living Conversion Program: June 22, 2005.

Section 202 Supportive Housing for the Elderly Program: July 1, 2005.

Section 811 Supportive Housing for Persons with Disabilities Program: June 10, 2005.

FOR FURTHER INFORMATION CONTACT: For the programs listed in this notice, please contact the office or individual listed under Section VII of the individual program sections of the SuperNOFA, published on March 21, 2005.

SUPPLEMENTARY INFORMATION: On March 21, 2005 (70 FR 13575), HUD published its Notice of HUD's Fiscal Year (FY) 2005, Notice of Funding Availability (NOFA), Policy Requirements and General Section to the SuperNOFA for HUD's Discretionary Grant Programs. The FY2005 SuperNOFA announced the availability of approximately $2.26 billion in HUD assistance. On May 10, 2005, (70 FR 24609) HUD published technical corrections to the Section 811 Program NOFA. On May 18, 2005, (70 FR 28553) HUD published technical corrections to the ALCP program NOFA. This notice published in today's Federal Register makes technical corrections to the Section 202 Supportive Housing for the Elderly Program (Section 202 Program) and makes additional technical corrections to the ALCP and Section 811 Program NOFAs.

Summary of Technical Corrections

Summaries of the technical corrections made by this document follow. The page number shown in brackets identifies where the individual funding availability announcement that is being corrected can be found in the March 21, 2005, SuperNOFA. The technical correction described in today's Federal Register will also be reflected in the application instructions located on Grants.gov/Apply. Applicants submitting their applications electronically are encouraged to read the instructions located on Grants.gov/Apply prior to submitting their application.

Assisted Living Conversion Program [Page 14148]

On page 14153, B., third column, HUD is clarifying the application submission requirements by revising how applicants may submit copies of their project's original plans.

Section 202 Supportive Housing for the Elderly Program [Page 14187]

On page 14188, Overview Information, section F., first column, the application submission deadline is extended to July 1, 2005.

On page 14189, section II.A., second column, HUD is clarifying the reference to “each local HUD office” in the description of the process for allocating Section 202 funds by adding language to clarify that the Washington, DC Office is excluded from the references to “each local HUD office.”

On page 14193, section III.C.2.b.(3)(c)(i), bottom of third column, as a result of the extension of the application submission deadline, clarification is added to advise applicants that a Phase I Environmental Site Assessment (ESA) dated November 30, 2004, or later will meet the requirement for submitting a Phase I ESA.

On page 14194, section III.C.2.b.(3)(c)(ii), first column, as a result of the extension of the application submission deadline, a change is made to the date by which applicants must submit their Phase II Environmental Site Assessment.

On page 14194, section III.C.2.b.(3)(c)(iii), first column, as a result of the extension of the application submission deadline, a change is made to the date by which applicants must submit a plan and supporting documentation to clean-up a site that revealed contamination during the Phase II Environmental Site Assessment.

On page 14195, section IV.A., third column, HUD is clarifying the application and submission information by adding a note at the end of the first paragraph explaining the procedures for the electronic filing of Section 202 applications for those cases involving a single application from multiple applicants.

On page 14198, section IV.B.2.c.(1)(d)(i)(C), third column, as a result of the extension of the application submission deadline, a clarification is added to indicate to applicants that an option to purchase or long-term leasehold must be effective through November 30, 2005, or later.

On page 14199, section IV.B.2.c.(1)(d)(vii), third column, as a result of the extension of the application submission deadline, a clarification is made to advise applicants that a Phase I Environmental Site Assessment (ESA) dated November 30, 2004, or later will be acceptable and to change the date by which applicants must submit their Phase II ESA and any necessary plans for clean-up of a site that revealed contamination during the Phase II ESA.

On page 14217, Appendix A, Local HUD Offices, is amended to make it clear that HUD will accept applications for proposals to be located in Washington, DC and that if an applicant receives a waiver of the electronic application submission requirement for a proposal to be located in Washington, DC, the application must be submitted to the HUD Baltimore, Maryland Office.

On page 14222, Appendix A, Local HUD Offices, HUD is updating the telephone and TTY telephone numbers for the San Francisco Office.

Section 811 Program of Supportive Housing for Persons With Disabilities [Page 14227]

On page 14233, section III.C.2.b.(3)(d)(i), second of third column, as a result of the extension of the application deadline, clarification is added to advise applicants that a Phase I Environmental Site Assessment (ESA) dated November 24, 2004, or later will meet the requirement for submitting a Phase I ESA.

On page 14233, section III.C.2.b.(3)(d)(ii), bottom of third column, as a result of the extension of the application submission deadline, a change is made to the date by which applicants must submit their Phase II Environmental Site Assessment.

On page 14233, section III.C.2.b.(3)(d)(iii), bottom of third column, as a result of the extension of the application submission deadline, a change is made to the date by which applicants must submit a plan and supporting documentation to clean-up a site that revealed contamination during the Phase II Environmental Site Assessment.

On page 14239, section IV.B.2.c.(1)(d)(i)(C), bottom of second column, as a result of the extension of the application submission deadline, a clarification is added to indicate to applicants that an potion to purchase or long-term leasehold must be effective through November 24, 2005 or later.

On page 14240, section IV.B.2.c(1)(d)(vii), bottom of second column, as a result of the extension of the application submission deadline, a clarification is made to advise applicants that a Phase I Environmental Site Assessment (ESA) dated November 24, 2004, or later will be acceptable and to change the date by which applicants must submit their Phase II ESA and any necessary plans for clean-up of a site that revealed contamination during the Phase II ESA.

On page 14255, section IV.E.5., middle column, HUD is revising this funding information pursuant to the Emergency Supplemental Appropriations Act for Defense, the Global War on Terror, and Tsunami Relief, 2005 (Pub. L. 109-13; approved May 11, 2005).

Accordingly, in the Notice of HUD's Fiscal Year (FY) 2005, Notice of Funding Availability (NOFA), Policy Requirements and General Section to the SuperNOFA for HUD's Discretionary Grant Programs, beginning at 70 FR 13575, in the issue of March 21, 2005, the following corrections are made.

Assisted Living Conversion Program, Beginning on Page 14148

On page 14153, B. Content and Form of Application Submission, third column is revised to read as follows:

In addition to the relief of paperwork burden, you will not have to submit certain new/recent information and exhibits you have previously prepared. See individual item descriptions below to identify such items. An example of such an item may be the FY2003 Annual Financial Statement. Your application must include all of the information, materials, forms, and exhibits listed below. Exhibit 5.d. requires all applicants to submit copies of their development's original plans. However, if applicants experience difficulty in submitting the plans electronically or by facsimile, the plans may be mailed to the appropriate HUD Multifamily Hub by the application deadline date of June 22, 2005. (See the General Section for instructions on how to submit third party and other documents such as Articles of Incorporation; by-laws, copies of original plans; evidence of financial commitment; letter(s) from zoning officials; etc.):

Section 202 Supportive Housing for the Elderly Program, Beginning at Page 14187

On page 14188, Overview Information, section F., first column, is revised to read as follows: F. Dates: Application Submission Date. The application submission date is on or before July 1, 2005. Refer to Section IV of this NOFA and to the General Section for information on application submission requirements.

On page 14189, section II.A., second column, the paragraph immediately preceding the “note” is revised to read as follows:

Under Section 202, 85 percent of the total capital advance amount is allocated to metropolitan areas and 15 percent to nonmetropolitan areas. In addition, each local HUD office jurisdiction receives sufficient capital advance funds for a minimum of 20 units in metropolitan areas and 5 units in nonmetropolitan areas with the exception of the Washington, DC Office, which has no separate allocation of Section 202 capital advance funds this fiscal year. Accordingly, the references to “each local HUD office” exclude the Washington, DC Office. (For those applicants that have received a waiver to the electronic application submission requirement, refer to Appendix A, Local HUD Offices, of this program NOFA for instructions on the submission of applications for proposals within the Washington, DC Office jurisdiction as well as the other local HUD offices.) The total amount of capital advance funds to support these minimum set-asides are subtracted from the respective (metropolitan or nonmetropolitan) total capital advance amounts available. The remainder is fair shared to each local HUD office jurisdiction whose fair share exceeds the minimum set-aside based on the allocation formula fair share factors described below.

On page 14193, section III.C.2.b.(3)(c)(i), third column, is corrected to read as follows:

(i) Phase I Environmental Site Assessment (ESA). You must submit a Phase I ESA, prepared in accordance with the ASTM Standards E 1527-00, as amended, completed or updated no earlier than six months prior to the application deadline date. As a result of the extension of the application deadline, a Phase I ESA that is dated November 30, 2004, or later will meet the requirement for submitting a Phase I ESA. The Phase I ESA must be completed and submitted with the application. Therefore, it is important that you start the Phase I ESA process as soon after publication of the SuperNOFA as possible. To help you choose an environmentally safe site, HUD invites you to review the document “Choosing an Environmentally Safe Site” which is available on HUD's Web site at http://www.hud.gov/offices/adm/grants/fundsavail.cfm and the “Supplemental Guidance, Environmental Information”, in Appendix C to this program section of the SuperNOFA.

On page 14194, section III.C.2.b.(3)(c)(ii), first column, is corrected to read as follows:

(ii) Phase II ESA. If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered for review under this FY 2005 funding competition, the Phase II ESA must be received by the local HUD office on or before August 1, 2005.

On page 14194, section III.C.2.b.(3)(c)(iii), first column, is corrected to read as follows:

(iii) Clean-up. If the Phase II ESA reveals site contamination, the extent of the contamination and a plan for clean-up of the site must be submitted to the local HUD office. The plan for clean-up must include a contract for remediation of the problem(s) and an approval letter from the applicable federal, state, and/or local agency with jurisdiction over the site. In order for your application to be considered for review under this FY 2005 funding competition, this information must be received by the local HUD office on or before August 1, 2005.

On page 14195, section IV.A., third column, at the end of the first paragraph, add the following “note” to read as follows:

Note: For Section 202 applications that will have more than one applicant; i.e., Co-Sponsors, the applicants must designate a single individual to act as the authorized representative for all Co-Sponsors of the application. The designated authorized representative of the organization submitting the application must be registered with Grants.gov, the Federal Central Contractor Registry and with the credential provider for E-Authentication. Information on the Grants.gov registration process is found at http://www.grants.gov/GetStarted. When the application is submitted through Grants.gov, the name of the designated authorized representative will be inserted into the signature line of the application. Please note that the designated authorized representative must be able to make legally binding commitments for each Co-Sponsor to the application.

Each Co-Sponsor must complete the documents required of all co-sponsoring organizations to permit HUD to make a determination on the eligibility of the Co-Sponsor(s) and the acceptability of the application based on the assistance and commitments the Co-Sponsor(s) has pledged to the project. Therefore, each co-sponsor must submit the following information using the scanning and/or faxing method described in Section IV. of the General Section: Standard Form 424, Application for Federal Assistance; Standard Form 424 Supplement, Survey on Ensuring Equal Opportunity for Applicants; Standard Form LLL, Disclosure of Lobbying Activities (if applicable); Form HUD-92015-CA, Section 202 Application for Capital Advance, Summary Information; Form HUD-2530, Previous Participation Certification; Form HUD-92041, Sponsor's Conflict of Interest Resolution; and Form HUD-92042, Sponsor's Resolution for Commitment to Project. The forms identified above are available in the Program instructions package that can be downloaded from Grants.gov as well as HUD's Web site at http://www.hud.gov/offices/adm/grants/nofa05/snofaforms.cfm. The downloaded and completed forms should be saved as separate electronic files and attached to the electronic application submission following the requirements of Section IV.

As stated in the General Section, Section IV, forms and other documents from Co-Sponsors that will be scanned to create an electronic file and submitted as an attachment to the application should be labeled and numbered so the HUD reviewer can identify the file and its contents. If the applicant is creating an electronic file, the file should contain a header that identifies the name of the sponsor submitting the electronic application, that sponsor's DUNS number, and the unique ID that is found at the top of the Facsimile Transmission form found in the electronic application package. The naming convention for each electronic file should correspond to the labeling convention used in the application Table of Contents found on page 14196, column 2, of the Section 202 program NOFA. For example, the organizational documents of a Co-Sponsor would be included under Part II, Exhibit 2(a) of the Section 202 application. Electronic files can be attached to the electronic application using the Attachment Form contained in the electronic application package.

If the applicant cannot create an electronic file or does not have access to a scanner, the required signed documents may be submitted to accompany the electronic application by completing the required information and submitting it via facsimile, using Form HUD-96011, Facsimile Transmittal found in the electronic application package. Co-Sponsors should use the form HUD-96011 provided by the sponsor that is submitting the electronic application. The submitting sponsor should fill in the SF 424 form prior to giving the form HUD 96011 to the Co-sponsors. By following these directions, the form HUD 96011 will be pre-populated with the submitting sponsor's organizational information exactly as the submitting sponsor has provided it on the electronic application. In addition, HUD will be using the unique identifier associated to the downloaded application package as a means of matching the faxing submitted with the applications received via Grants.gov. The Facsimile Transmittal form also has space to provide the number of pages being faxed and information on the type of document. Co-Sponsors or the submitting applicant can insert the document name in the space provided labeled Program Component.

Co-Sponsor's documents sent by facsimile as part of an electronic application submission, must use Form HUD-96011, Facsimile Transmittal that was downloaded with the application as the cover page. Do not insert any additional or other cover pages as it will cause problems in electronically matching the pieces of the application.

On page 14198, section IV.B.2.c.(1)(d)(i)(C), third column, is corrected to read as follows:

(C) Option to purchase or for a long-term leasehold, which must remain in effect through November 30, 2005, or later, must state a firm price binding on the seller, and be renewable at the end of the option period. The only condition on which the option may be terminated is if you are not awarded a fund reservation;

On page 14199, section IV.B.2.c.(1)(d)(vii), third column, is corrected to read as follows:

(vii) A Phase I Environmental Site Assessment (ESA), in accordance with the ASTM Standards E 1527-00, as amended, must be completed and submitted with the application. In order for the Phase I ESA to be acceptable, it must have been completed or updated no earlier than November 30, 2004. Therefore, it is important to start the site assessment process as soon after the publication of the NOFA as possible. If the Phase I ESA indicates possible presence of contamination and/or hazards, you must decide whether to continue with this site or choose another site. Should you choose another site, the same Phase I ESA process identified above must be followed for the new site. If the property is to be acquired from the FDIC/RTC, include a copy of the FDIC/RTC prepared Transaction Screen Checklist or Phase I ESA and applicable documentation, per the FDIC/RTC Environmental Guidelines. If you choose to continue with the original site on which the Phase I ESA indicated contamination or hazards, you must undertake a detailed Phase II ESA by an appropriate professional. If the Phase II Assessment reveals site contamination, you must submit the extent of the contamination and a plan for clean-up of the site including a contract for remediation of the problem(s) and an approval letter from the applicable federal, state, and/or local agency with jurisdiction over the site to the local HUD office. The Phase II ESA and any necessary plans for clean-up do not have to be submitted with the application but must be received by the local HUD office by August 1, 2005. If it is not received by that date, the application will be rejected.

On page 14217, Appendix A, Local HUD Offices, paragraph 2.c. is revised to read as follows:

Applications for projects proposed to be located in Washington, DC and Maryland must be submitted to the Baltimore, Maryland Office.

On page 14222, Appendix A, Local HUD Offices, the telephone and TTY telephone numbers for the San Francisco Office are revised to read as follows: telephone, (415) 489-6676; TTY, (415) 489-6564.

Section 811 Supportive Housing for Persons With Disabilities Program, Beginning at Page 14227

On page 14233, section III.C.2.b.(3)(d)(i), third column, is corrected to read as follows:

(i) Phase I Environmental Site Assessment (ESA). You must submit a Phase I ESA, prepared in accordance with the ASTM Standards E 15270-00, as amended, completed or updated no earlier than six months prior to the application deadline date, in order for the application to be considered as an application with site control. As a result of the extension of the application deadline, a Phase I ESA that is dated November 24, 2004, or later will meet the requirement for submitting a Phase I ESA. The Phase I ESA must be completed and submitted with the application. Therefore, it is important that you start the Phase I ESA process as soon after publication of the SuperNOFA as possible. To help you chose an environmentally safe site, HUD invites you to review the document “Choosing an Environmentally Safe Site” which is available on HUD's Web site at http://www.hud.gov/offices/adm/grants/fundsavail.cfm and the “Supplemental Guidance, Environmental Information”, in Appendix C to this program section of the SuperNOFA.

On page 14233, section III.C.2.b.(3)(d)(ii), third column, is corrected to read as follows:

(ii) Phase II ESA. If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered as an application with site control, the Phase II ESA must be received by the local HUD office on or before July 11, 2005.

On page 14233, section III.C.2.b.(3)(d)(iii), third column, is corrected to read as follows:

(iii) Clean-up. If the Phase II ESA reveals site contamination, the extent of the contamination and a plan for clean-up of the site must be submitted to the local HUD office. The plan for clean-up must include a contract for remediation of the problem(s) and an approval letter from the applicable federal, state, and/or local agency with the jurisdiction over the site. In order for application to be considered as an application with site control, this information must be received by the local HUD office on or before July 11, 2005.

On page 14239, section IV.B.2.c.(1)(d)(i)(C), second column, is corrected to read as follows:

(C) Option to purchase or for a long-term leasehold, which must remain in effect through November 24, 2005, or later, must state a firm price binding on the seller, and be renewable at the end of the option period. The only condition on which the option may be terminated is if you are not awarded a fund reservation;

On page 14240, section IV.B.2.c.(1)(d)(vii), second column, is corrected to read as follows:

(vii) A Phase I Environmental Site Assessment (ESA), in accordance with the ASTM Standards E 1527-00, as amended, must be completed and submitted with the application. In order for the Phase I ESA to be acceptable, it must have been completed or updated no earlier than November 24, 2004. Therefore, it is important to start the site assessment process as soon after the publication of the NOFA as possible. If the Phase I ESA indicates possible presence of contamination and/or hazards, you must decide whether to continue with this site or choose another site. Should you choose another site, the same Phase I ESA process identified above must be followed for the new site. If the property is to be acquired from the FDIC/RTC, include a copy of the FDIC/RTC prepared Transaction Screen Checklist or Phase I ESA and applicable documentation, per the FDIC/RTC Environment Guidelines. If you choose to continue with the original site on which the Phase I ESA indicated contamination or hazards, you must undertake a detailed Phase II ESA by an appropriate professional. If the Phase II Assessment reveals site contamination, you must submit the extent of the contamination and a plan for clean-up of the site including a contract for remediation of the problem(s) and an approval letter from the applicable federal, state, and/or local agency with the jurisdiction over the site to the local HUD office. The Phase II ESA and any necessary plans for clean-up do not have to be submitted with the application but must be received by the local HUD office by July 11, 2005. If it is not received by that date, the site will be rejected and the application will be placed in Category B for selection purposes.

On page 14255, section IV.E.5., middle column, paragraph 5 is revised to read as follows:

5. Expiration of Section 811 Funds. The Consolidated Appropriations Act, 2005, as amended by the Emergency Supplemental Appropriations Act for Defense, the Global War on Terror, and Tsunami Relief, 2005 (Pub. L. 109-13; approved May 11, 2005) requires HUD to obligate all Section 811 funds appropriated for FY2005 by September 30, 2006. Under 31 U.S.C. 1551 et seq., no funds can be disbursed from this account after September 30, 2011. Under Section 811, obligation of funds occurs for both capital advances and project rental assistance upon fund reservation and acceptance. If all funds are not disbursed by HUD and expended by the project Owner by September 30, 2011, the funds, even though obligated, will expire and no further disbursements can be made from this account. In submitting an application, you need to carefully consider whether your proposed project can be completed through final capital advance closing no later than September 30, 2011. Furthermore, all unexpended balances, including any remaining balance on PRAC contracts, will be cancelled as of October 1, 2011. Amounts needed to maintain PRAC payments for any remaining term on the affected contracts beyond that date will have to be funded from other current appropriations.

Dated: May 25, 2005.
Frank L. Davis,
General Deputy Assistant Secretary for Housing—Deputy Federal Housing Commissioner.

[FR Doc. 05-10844 Filed 5-26-05; 11:53 pm]

BILLING CODE 4210-32-P